DEPARTMENT OF THE TREASURY

Agreement for a Social Impact Partnership Project

AGENCY: Department of the Treasury.

ACTION: Notice.

SUMMARY: In accordance with the Social Impact Partnerships to Pay for Results Act (“SIPPRA”), the U.S. Department of the Treasury (“Treasury”) and City and County of Denver (“Denver”) have entered into an agreement for a social impact partnership project (the “Project Grant Agreement”). The SIPPRA program makes funding available to state and local governments for pay-for-results social impact partnership projects. SIPPRA projects may seek to improve a variety of social problems, including increasing employment, wages, and financial stability for low-income families; improving family health and housing; and reducing recidivism.

SUPPLEMENTARY INFORMATION: The Project Grant Agreement contains the following features:

(1) The outcome goals of the social impact partnership project:

The Denver Housing to Health (“H2H”) Pay for Success Project Denver proposes the following intermediate outcomes: Increased housing stability; decreased police contacts; and increased access to health services. Denver also proposes the following long-term outcomes: Improved health; increased access to health services (resulting in decreased visits to detoxification centers and decreased avoidable emergency room and hospital visits); and decreased criminal justice involvement. Overall, the project objective is to reduce the Medicaid and Medicare expenditures of the target population.

(2) A description of each intervention in the project:

Two service providers, the Colorado Coalition for the Homeless (“CCH”) and the Mental Health Center of Denver (“MHCD”) will deliver permanent supportive housing, modified assertive community treatment (“ACT”) and case management to 125 participants.

• Permanent Supportive Housing is an evidence-based intervention that provides housing plus intensive case management and connects clients with community services, including primary health care.

• Modified Assertive Community Treatment consists of a multidisciplinary team that strives to meet behavioral health and other needs of clients in order to maximize opportunities for recovery. Among the primary benefits of ACT is its ability to have multiple perspectives for treatment planning and assessment, ongoing collaboration, and planning and evaluation, with the client being an active member of the team.

• Case Management includes evidence-based motivational interviewing and trauma-informed care to assist participants in engaging and connecting with integrated health services, as deemed clinically appropriate and fitting the clients' needs. This approach is designed to help improve health outcomes, address barriers to housing stability, manage mental illness and reduce interaction with the criminal justice system.

(3) The target population that will be served by the project:

H2H will target individuals who are chronically homeless, have a record of at least eight arrests over the past three years in Denver County, and are at high risk for avoidable and high-cost health services paid through Medicaid.

(4) The expected social benefits to participants who receive the intervention and others who may be impacted:

H2H is expected to help individuals improve their health outcomes, break the cycle of jail and homelessness, and save taxpayer dollars on the cost of health care in jail and in the community.

(5) The detailed roles, responsibilities, and purposes of each Federal, State, or local government entity, intermediary, service provider, independent evaluator, investor, or other stakeholder:

H2H role | Partner | Responsibilities
Lead applicant/Local government | City of Denver | Repay investors with SIPPRA funds if performance benchmarks are met.
Intermediary | A special purpose vehicle will be created by The Corporation for Supportive Housing (“CSH”) | Manage service provider performance, day-to-day operations and facilitate investor agreements and payments from the DOF to investors. Serve as project manager—providing project oversight, communicating with all parties, and providing advisory services.
Service providers | Colorado Coalition for the Homeless | Provide housing.
| Mental Health Center of Denver | Provide supportive housing services. Deliver ACT.
Independent evaluation | Urban Institute | Establish research design. Verify that performance benchmarks are met. Measure other outcomes of interest.
Pay for Success investors | Including Northern Trust, The Denver Foundation | Provide capital to fund services.
| There has been significant investor interest, and project partners intend to add investors if the project receives SIPPRA funding. In addition to letters of commitment from the investors named above, letters of interest and support from other investors are included as attachments | Receive principal and interest when performance benchmarks are met.

(6) The payment terms, the methodology used to calculate outcome payments, the payment schedule, and performance thresholds:

The Recipient's outcome payment will be equal to the sum of the annual difference between the treatment group's Medicaid and Medicare expenditures and the control group's Medicaid and Medicare expenditures over the project period.

(7) The project budget:

Project Budget
Service Delivery | $13,524,300.00
Evaluation | 1,282,800.00
Total Project Costs | 14,807,100.00

(8) The project timeline:

The intervention will take place over seven years, beginning on April 29, 2022 and serving clients through April 28, 2029.

(9) The project eligibility criteria:

The eligibility criteria for H2H are that individuals must be at least 18 years old, have had at least eight arrests over the past three years, were experiencing homelessness at the time of their last arrest and are at high risk for avoidable and high-cost health services paid through Medicaid and Medicare. Potentially eligible clients will be referred to H2H through Denver Health and Denver Police Department (“DPD”).

(10) The evaluation design:

H2H'S randomized controlled trial (“RCT”) design will compare the trajectories of homeless, frequent users of medical services who receive supportive housing and those who receive usual care. Because available supportive housing is not available to all of the people who need it, the limited 125 housing slots will be allocated by lottery, which is a fair way to allocate the scarce housing resources and also enables random assignment. The evaluation will track outcomes for both groups and attribute any differences to the H2H program intervention.

(11) The metrics that will be used in the evaluation to determine whether the outcomes have been achieved as a result of each intervention and how these metrics will be measured:

The evaluation metrics will include information on housing stability and reductions in jail days and net reductions in federal expenditures for Medicaid and Medicare claims, to be paid by SIPPRA funding if successful. The net reduction in federal expenditures will be measured as the average difference in the change over time (pre and post randomization) in the amount billed for claims between the treatment and control groups.

(12) The estimate of the savings to the Federal, State, and local government, on a program-by-program basis and in the aggregate, if the agreement is entered into and implemented and the outcomes are achieved as a result of each intervention:

Federal Savings: $5,512,000

City Savings: $9,235,055

Authority: Public Law 115-123, Division E, Title VIII, 42 U.S.C. 1397n-1397n-13.

Catherine Wolfram,
Deputy Assistant Secretary for Climate and Energy Economics, Office of Economic Policy.

[FR Doc. 2021-25600 Filed 11-23-21; 8:45 am]

BILLING CODE 4810-AK-P